ELECTION ASSISTANCE COMMISSION

Sunshine Act Meetings

AGENCY: Election Assistance Commission.

ACTION: Sunshine Act notice; Notice of public meeting agenda.

SUMMARY: Public Meeting: U.S. Election Assistance Commission Technical Guidelines Development Committee Meeting.

DATES: Tuesday, January14th, 2025, 9:00 a.m.-5:00 p.m. ET.

ADDRESSES: The meeting will be held in person at the National Cybersecurity Center of Excellence, 9700 Great Seneca Highway, Rockville, MD 20850. Pre-registration is required.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct annual meeting of the EAC Technical Guidelines Development Committee (TGDC) to discuss regular business of the board.

Agenda: The EAC and TGDC members will hold an annual meeting to discuss program updates for EAC Testing and Certification and the National Institute of Standards and Technology (NIST) Voting Program, and more. The full agenda will be posted in advance on the EAC website: https://www.eac.gov/events/2025/01/14/eac-technical-guidelines-development-committee-2024-annual-meeting. Registration is required to attend. Please register by January 6, 2025.

The EAC will accept written comments and questions from members of the public. If you would like to participate, please email clearinghouse@eac.gov with your full name and question or comment no later than 9:00 a.m. E.T. on January 14, 2025.

Background: Section 221 of the Help America Vote Act (HAVA) of 2002 (52 U.S.C. 20971(b)) requires that the EAC adopt voluntary voting system guidelines, and provide for the testing, certification, decertification, and recertification of voting system hardware and software.

The TGDC was established in accordance with the requirements of Section 221 of the Help America Vote Act of 2002 (Pub. L. 107-252, codified at 52 U.S.C. 20961), to act in the public interest to assist the Executive Director of the EAC in the development of voluntary voting system guidelines.

Status: This meeting will be open to the public.

Camden Kelliher,
General Counsel, U.S. Election Assistance Commission.

[FR Doc. 2024-29672 Filed 12-12-24; 4:15 pm]

BILLING CODE 4810-71-P